SECURITIES AND EXCHANGE COMMISSION

File No. 1-13949

Issuer Delisting; Notice of Application to Withdraw From Listing and Registration From the American Stock Exchange LLC (Local Financial Corporation, 11% Senior Notes)

March 22, 2002.

Local Financial Corporation, a Delaware corporation (“Issuer”), has filed an application with the Securities and Exchange Commission (“Commission”), pursuant to section 12(d) of the Securities Exchange Act of 1934 (“Act”) ¹ and Rule 12d2-2(d) thereunder,² to withdraw its 11% Senior Notes (“Security”), from listing and registration on the American Stock Exchange LLC (“Amex” or “Exchange”).

¹ 15 U.S.C. 78l(d).

² 17 CFR 240.12d2-2(d).

The Issuer stated in its application that it has met the requirements of Amex Rule 18 by complying with all applicable laws in effect in the State of Delaware, in which it is incorporated, and with the Amex's rules governing an issuer's voluntary withdrawal of a security from listing and registration.

The Board of Trustees (“Board”) of the Issuer unanimously approved a resolution on February 27, 2002 to withdraw the Issuer's Security from listing on the Amex. In making the decision to withdraw its Security from the Amex, the Board states that the Issuer has no continuing obligation to list the Security. The Issuer states that the Security is rarely traded and the Issuer has no record of any transaction occurring on the Amex since the original listing of the Security in April 1998. In addition, the Issuer wishes to reduce the cost of continuing to list the Security and has other securities outstanding which obligate it to continue filing its reports with the Commission. The Issuer's application relates solely to the withdrawal of the Security from listing and registration under section 12(b) of the Act ³ and shall not affect its obligation to be registered under section 12(g) of the Act.⁴

³ 15 U.S.C. 78l(b).

⁴ 15 U.S.C. 78l(g).

Any interested person may, on or before April 15, 2002, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 02-7463 Filed 3-27-02; 8:45 am]

BILLING CODE 8010-01-P